DEPARTMENT OF HEALTH AND HUMAN SERVICES

Office of the National Coordinato for Health Information Technology, American Health Information Community Chronic Care Workgroup Meeting

ACTION: Announcement of Meeting.

SUMMARY: This notice announces the eleventh meeting of the American Health Information Community Chronic Care Workgroup in accordance with the Federal Advisory Committee Act (Pub. L. No. 92-463, 5 U.S.C., App.).

DATES: November 8, 2006, from 1 p.m. to 4 p.m.

ADDRESSES: Mary C. Switzer Building (330 C Street, SW., Washington, DC 20201, Conference Room 4090 (please bring photo ID for entry to a Federal building).

FOR FURTHER INFORMATION CONTACT: http://www.hhs.gov/healthit/ahic/cc_main.html.

SUPPLEMENTARY INFORMATION: The Workgroup will discuss the demonstration project and secure messaging.

The meeting will be available via Web cast at http:///www.hhs.gov/healthit/ahic/cc_instruct.hml.

Dated: October 11, 2006.
Judith Sparrow,
Director, American Health Information Community, Office of Programs and Coordination, Office of the National Coordinator for Health Information Technology.

[FR Doc. 06-8737 Filed 10-17-06; 8:45am]

BILLING CODE 4150-24-M